DEPARTMENT OF COMMERCE

Foreign-Trade Zones Board

[B-1-2013]

Foreign-Trade Zone 3—San Francisco, California; Amendment to Application for Expansion of Service Area; Under Alternative Site Framework

An application is currently pending with Foreign-Trade Zones (FTZ) Board (the Board) (FTZ Board Docket B-1-2013, 78 FR 2952, 01/05/2013), submitted by the San Francisco Port Commission, grantee of Foreign-Trade Zone 3, San Francisco, California, requesting authority to expand its service area under the alternative site framework (ASF) adopted by the Board (15 CFR Sec. 400.2(c)), as well as to include an additional usage-driven site. The expanded service area of the zone would include Contra Costa, Marin and Solano Counties, California, as well as portions of Napa and Sonoma Counties, California, as described in the application.

The applicant has now amended its application to reduce the portions of Napa and Sonoma Counties proposed for inclusion in the expanded service area. There is no change in terms of Marin, Contra Costa and Solano Counties.

A copy of the revised application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz. For further information, contact Christopher Kemp at Christopher.Kemp@trade.gov or (202) 482-0862.

Dated: March 1, 2013.
Andrew McGilvray,
Executive Secretary.

[FR Doc. 2013-05354 Filed 3-7-13; 8:45 am]

BILLING CODE P